DEPARTMENT OF ENERGY

Federal Energy Regulatory Commission

[Docket No. RP05-502-000]

Dominion Transmission, Inc.; Notice of Report of Overrun Charge/Penalty Revenue Distribution

July 13, 2005.

Take notice that on July 7, 2005, Dominion Transmission, Inc. (DTI) filed its annual report of overrun charge/penalty revenue distributions. DTI states that section 41 of the general terms and conditions of DTI's FERC Gas Tariff, crediting of unauthorized overrun charge and penalty revenues, requires distribution of such charges and revenues to non-offending customers on June 30 of each year, and filing of the related report within 30 days of the distribution.

DTI states that it distributed the penalty revenues to customers on June 30, 2005. DTI further states that included in the distribution was overrun penalty revenue DTI received from offending customers for the twelve-month period ending March 2005, with interest calculated through June 30, 2005.

DTI states that copies of the filing are being mailed to DTI's customers and to all interested State commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-3822 Filed 7-18-05; 8:45 am]

BILLING CODE 6717-01-P